SECURITIES AND EXCHANGE COMMISSION

[Release No. 34-74725; File No. SR-NASDAQ-2015-032]

Self-Regulatory Organizations; The NASDAQ Stock Market LLC; Notice of Filing and Immediate Effectiveness of Proposed Rule Change To Amend NASDAQ Rules 7014 and 7018

April 14, 2015.

Correction

In notice document 2015-08941, appearing on pages 21778-21782 in the Issue of Monday, April 20, 2015, make the following correction:

On page 21781, in the third column, on the last line, “May 8, 2015.” should read “May 11, 2015.”

[FR Doc. C1-2015-08941 Filed 4-28-15; 8:45 am]

BILLING CODE 1505-01-P